DEPARTMENT OF TRANSPORTATION

Federal Aviation Administration

Advisory Circular; Damage Tolerance for High Energy Turbine Engine Rotors

AGENCY: Federal Aviation Administration, DOT.

ACTION: Notice of issuance of final advisory circular (AC) on damage tolerance for high energy turbine engine rotors.

SUMMARY: This notice announces the issuance of Advisory Circular (AC) No. 33.14-1, Damage Tolerance for High Energy Turbine Rotors.

DATES: Advisory Circular No. 33.14.1, was issued by the New England Aircraft Certification Service, Engine and Propeller Directorate on January 8, 2001.

FOR FURTHER INFORMATION CONTACT: Tim Mouzakis, Engine and Propeller Standards Staff, ANE-110, at the above address, telephone (781) 238-7114, fax (781) 238-7199. A copy of the subject AC may also be obtained electronically by writing to the following Internet address: “tim.mouzakis@faa.gov”. Additionally, you may obtain a copy of the AC directly from the internet at the following address: “http://www.faa.gov/avr/air/acs/achome.htm”.

SUPPLEMENTARY INFORMATION: This advisory circular (AC) provides guidance and information on acceptable methods, but not the only methods of compliance with § 33.14 of the Federal Aviation Regulations, Title 14 of the Code of Federal Regulations. Section 33.14 contains requirements of life management requirements applicable to the design and life management of titanium alloy high energy rotating parts of aircraft engines. Although this AC does refer to regulatory requirements that are mandatory, this ACT is not, in itself, mandatory. This AC neither changes any regulatory requirement nor authorizes changes in or deviations from the regulatory requirements.

This advisory circular would be published under the authority granted to the Administrator by 49 U.S.C. 106(g), 40113, 44701-44702, 44704, provides guidance for Damage tolerance for high energy turbine engine rotors.

Issued in Burlington, Massachusetts, on January 8, 2001.
David A. Downey,
Assistant Manager, Engine and Propeller Directorate, Aircraft Certification Service.

[FR Doc. 01-1285 Filed 1-16-01; 8:45 am]

BILLING CODE 4910-13-M